DEPARTMENT OF ENERGY

Federal Energy Regulatory Commission

Combined Notice of Filings

Take notice that the Commission has received the following Natural Gas Pipeline Rate and Refund Report filings:

Filings Instituting Proceedings

Docket Numbers: RP12-604-000.

Applicants: Columbia Gas Transmission, LLC.

Description: TCRA 2012 to be effective 6/1/2012.

Filed Date: 4/13/12.

Accession Number: 20120413-5068.

Comments Due: 5 p.m. ET 4/25/12.

Docket Numbers: RP12-605-000.

Applicants: Columbia Gas Transmission, LLC.

Description: OTRA—April 2012 to be effective 6/1/2012.

Filed Date: 4/13/12.

Accession Number: 20120413-5120.

Comments Due: 5 p.m. ET 4/25/12.

Docket Numbers: RP12-606-000.

Applicants: El Paso Natural Gas Company.

Description: El Paso Natural Gas Company Request for Waiver Filing.

Filed Date: 4/16/12.

Accession Number: 20120416-5057.

Comments Due: 5 p.m. ET 4/30/12.

Docket Numbers: RP12-607-000.

Applicants: Anadarko Energy Services Company, Western Gas Resources Inc., Kerr McGee Energy Services Corporation, Kerr McGee (Nevada) LLC.

Description: Joint Petition of Kerr McGee Energy Services. Corporation, et al. for Temporary Waivers of Capacity Release Regulations and Policies, & Request for Shortened Comment Period & Expedited Treatment.

Filed Date: 4/12/12.

Accession Number: 20120412-5237.

Comments Due: 5 p.m. ET 4/24/12.

Docket Numbers: RP12-608-000.

Applicants: Natural Gas Pipeline Company of America.

Description: Tenaska Gas Negotiated Rate to be effective 4/16/2012.

Filed Date: 4/16/12.

Accession Number: 20120416-5162.

Comments Due: 5 p.m. ET 4/30/12.

Docket Numbers: RP12-609-000.

Applicants: Texas Gas Transmission, LLC.

Description: Authorization for Sale of Excess Storage Inventory filing to be effective 5/17/2012.

Filed Date: 4/16/12.

Accession Number: 20120416-5175.

Comments Due: 5 p.m. ET 4/30/12.

Docket Numbers: RP12-610-000.

Applicants: Columbia Gas Transmission, LLC.

Description: Columbia Gas Transmission, LLC submits tariff filing per 154.204: Negotiated Rate Service Agreement—South Jersey to be effective 5/17/2012.

Filed Date: 4/17/12.

Accession Number: 20120417-5076.

Comments Due: 5 p.m. ET 4/30/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP11-1566-009.

Applicants: Tennessee Gas Pipeline Company, LLC.

Description: Rate Case 2011 Refund Report to be effective N/A.

Filed Date: 4/13/12.

Accession Number: 20120413-5140.

Comments Due: 5 p.m. ET 4/25/12.

Docket Numbers: RP12-458-002.

Applicants: Eastern Shore Natural Gas Company.

Description: Docket No. RP12-458 Compliance Filing to be effective 4/13/2012.

Filed Date: 4/16/12.

Accession Number: 20120416-5146.

Comments Due: 5 p.m. ET 4/30/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: April 17, 2012.
Nathaniel J. Davis, Sr.,
Deputy Secretary.

[FR Doc. 2012-10037 Filed 4-25-12; 8:45 am]

BILLING CODE 6717-01-P